DEPARTMENT OF STATE

[Public Notice 3534]

Culturally Significant Objects Imported for Exhibition Determinations: “Van Gogh Portraits: Face to Face”

AGENCY: United States Department of State.

ACTION: Amendment.

SUMMARY: On February 16, 2000, Notice was published on page 7902 of the Federal Register (Volume 65, Number 32) by the Department of State pursuant to Public Notice 3228 relating to the exhibit “Van Gogh Portraits: Face to Face.” The referenced Notice is hereby amended to add a venue. After “January 14, 2001 and before “is in the national interest,” insert the following additional language: “and at the Museum of Modern Art, New York, NY from January 30, 2001, through May 15, 2001.”

FOR FURTHER INFORMATION CONTACT: For further information, including a list of exhibit objects, contact Jacqueline Caldwell, Attorney-Adviser, Office of the Legal Adviser, U.S. Department of State (telephone: 202/619-6982). The address is U.S. Department of State, SA-44; 301 4th Street, S.W., Room 700, Washington, D.C. 20547-0001.

Dated: December 28, 2000.
William B. Bader,
Assistant Secretary for Educational and Cultural Affairs, United States Department of State.

[FR Doc. 01-458 Filed 1-5-01; 8:45 am]

BILLING CODE 4710-08-P